DEPARTMENT OF HEALTH AND HUMAN SERVICES

Health Resources and Service Administration

Advisory Committee on Interdisciplinary, Community-Based Linkages; Notice of Meeting

In accordance with section 10(a)(2) of the Federal Advisory Committee Act (Pub. L. 92-463), notice is hereby given of the following meeting:

Name: Advisory Committee on Interdisciplinary, Community-Based Linkages (ACICBL).

Dates and Times: January 27, 2011, 8:30 a.m. to 5 p.m., EST. January 28, 2011, 8:30 a.m. to 4 p.m., EST.

Place: Hilton Washington DC/Rockville Executive Meeting Center, 1750 Rockville Pike, Rockville, MD 20852. Telephone: 301-468-1100.

Status: The meeting will be open to the public.

Purpose: The members of the ACICBL will advance the planning required to develop their 11th Annual Report for the Secretary of the Department of Health and Human Services (the Secretary) and Congress, using the working topic, Continuing Education, Professional Development and Lifelong Learning for the 21st Century Health Care Workforce. The meeting will provide the planning and writing sub-committees with the opportunity to review the urgent issues related to the training programs, identify resources that will address the gaps and further strengthen the outcomes from these efforts, examine testimony from the experts in the field, and offer recommendations for improvement of these training programs to the Secretary and the Congress.

Agenda: The ACICBL agenda includes an overview of the Committee's general business activities, an orientation for the eight newly appointed members, presentations by and dialogue with experts, and discussion sessions specific to the development of recommendations to be addressed in the 11th Annual ACICBL Report. Agenda items are subject to change as dictated by the priorities of the Committee.

SUPPLEMENTARY INFORMATION: Requests to make oral comments or to provide written comments to the ACICBL should be sent to Dr. Joan Weiss, Designated Federal Official at the contact information below. Individuals who plan to attend the meeting and need special assistance should notify Dr. Weiss at least 10 days prior to the meeting, using the address and phone number below. Members of the public will have the opportunity to provide comments at the meeting.

FOR FURTHER INFORMATION CONTACT: Anyone requesting additional details should contact Dr. Joan Weiss, Designated Federal Official within the Bureau of Health Professions, Health Resources and Services Administration. Dr. Weiss may be reached by one of the three following methods: (1) Via written request to: Dr. Joan Weiss, Designated Federal Official, Bureau of Health Professions, Health Resources and Services Administration, Parklawn Building, Room 9-36, 5600 Fishers Lane, Rockville, Maryland 20857; (2) via telephone at (301) 443-6950; or (3) via e-mail at jweiss@hrsa.gov. In the absence of Dr. Weiss, CAPT Norma J. Hatot, Senior Nurse Consultant, may be contacted via telephone at (301) 443-2681 or by e-mail at nhatot@hrsa.gov.

Dated: December 21, 2010.
Robert Hendricks,
Director, Division of Policy and Information Coordination.

[FR Doc. 2010-32560 Filed 12-27-10; 8:45 am]

BILLING CODE 4165-15-P